DEPARTMENT OF ENERGY

Federal Energy Regulatory Commission

[Project No. 13656-000]

TideWorks, LLC; Notice of Application Ready for Environmental Analysis, Soliciting Comments, Recommendations, and Terms and Conditions, and Waiving Scoping

August 17, 2010.

Take notice that the following hydroelectric application has been filed with the Commission and is available for public inspection.

a. Type of Application: 5-Megawatt Exemption From Licensing.

b. Project No.: 13656-000.

c. Date Filed: January 15, 2010.

d. Applicant: TideWorks, LLC.

e. Name of Project: TideWorks Project.

f. Location: On the Sasanoa River adjacent to Bareneck Island, in Sagadahoc County, Maine. The project would not occupy lands of the United States.

g. Filed Pursuant to: Public Utility Regulatory Policies Act of 1978, 16 U.S.C. 2705, 2708.

h. Applicant Contact: Shana Lewis, 730 N. Yellowstone Street, Livingston, MT 59047, (406) 224-2908.

i. FERC Contact: Tom Dean, (202) 502-6041.

j. Deadline for filing comments, recommendations, and terms and conditions is 60 days from the issuance of this notice; reply comments are due 105 days from the issuance date of this notice. Under section 30(c) of the Federal Power Act, exemptions are subject to the mandatory conditioning authority of federal and state fish and wildlife agencies with respect to the mitigation of project impacts on fish and wildlife resources.

All comments, recommendations, and terms and conditions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. A notice of application accepted for filing, soliciting motions to intervene, and intent to waive scoping was issued on May 28, 2010, establishing July 27, 2010, as the deadline to file interventions and comments. The National Marine Fisheries Service and the Maine State Planning Office filed interventions, and the U.S. Fish and Wildlife Service and the Maine Department of Marine Resources filed comments. No comments were filed regarding scoping. With this notice we are waiving scoping for the proposed TideWorks Project.

l. This application has been accepted and is now ready for environmental analysis.

m. The proposed project would consist of: (1) A new submerged 5 kilowatt single vertical shaft turbine generating unit with four 4-inch-wide, 5-foot-long blades; (2) a new 10-foot-wide, 20-foot-long steel pontoon float to suspend the turbine into the river; (3) a new 3.5-foot-wide, 40-foot-long walkway ramp connecting the pontoon float to Bareneck Island; (4) a new 100-foot-long, 220-volt transmission line; and (5) appurtenant facilities. The project would have an average annual generation of about 22,000 kilowatt-hours. The project would operate in a run-of-river mode using the river current flood and ebb tidal flows to rotate the hydrokinetic turbine generating unit.

n. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

All filings must (1) bear in all capital letters the title “COMMENTS”, “REPLY COMMENTS”, “RECOMMENDATIONS,” or “TERMS AND CONDITIONS,” (2) set forth in the heading the name of the applicant and the project number of the application to which the filing responds; (3) furnish the name, address, and telephone number of the person submitting the filing; and (4) otherwise comply with the requirements of 18 CFR 385.2001 through 385.2005. All comments, recommendations, or terms and conditions must set forth their evidentiary basis and otherwise comply with the requirements of 18 CFR 4.34(b). Agencies may obtain copies of the application directly from the applicant. A copy of all other filings in reference to this application must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

o. Public notice of the filing of the initial development application, which has already been given, established the due date for filing competing applications or notices of intent. Under the Commission's regulations, any competing development application must be filed in response to and in compliance with public notice of the initial development application. No competing applications or notices of intent may be filed in response to this notice.

Kimberly D. Bose,
Secretary.

[FR Doc. 2010-20933 Filed 8-23-10; 8:45 am]

BILLING CODE 6717-01-P